DEPARTMENT OF EDUCATION

National Assessment Governing Board Quarterly Board Meeting

AGENCY: National Assessment Governing Board, U.S. Department of Education.

ACTION: Announcement of open and closed meetings.

SUMMARY: This notice sets forth the agenda for the November 17-19, 2016 Quarterly Board Meeting of the National Assessment Governing Board (hereafter referred to as Governing Board). This notice provides information to members of the public who may be interested in attending the meeting or providing written comments on the meeting. The notice of this meeting is required under § 10(a)(2) of the Federal Advisory Committee Act (FACA).

DATES: The Quarterly Board Meeting will be held on the following dates:

• November 17, 2016 from 12:30 p.m. to 6:00 p.m.

• November 18, 2016 from 8:30 a.m. to 5:00 p.m.

• November 19, 2016 from 7:30 a.m. to 11:45 a.m.

ADDRESSES: Sheraton Pentagon City, 900 South Orme Street, Arlington, Virginia 22204.

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

November 17-19, 2016 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: November 17-19, 2016

November 17: Assessment Development Committee (ADC): Closed Session: 12:30 p.m. to 2:30 p.m.; Open Session: 2:30 p.m. to 4:00 p.m.

November 17: Executive Committee: Open Session: 4:30 p.m. to 5:35 p.m.; Closed Session: 5:35 p.m. to 6:00 p.m.

November 18: Full Governing Board and Committee Meetings

Full Governing Board: Open Session: 8:30 a.m. to 10:00 a.m.; Closed Sessions: 12:45 p.m. to 3:15 p.m.; Open Session: 3:30 p.m. to 5:00 p.m.

ADC and Committee on Standards, Design and Methodology (COSDAM): Joint Open Session: 10:15 a.m. to 11:00 a.m.; Joint Closed Session: 11:00 a.m. to 11:30 a.m.;

ADC: Closed Session: 11:45 a.m. to 12:30 p.m.

COSDAM: Open Session: 11:30 a.m. to 12:30 p.m.

Reporting & Dissemination (R&D) Committee: Open Session 10:15 a.m. to 12:30 p.m.

November 19: Full Governing Board and Committee Meetings

Nominations Committee: Closed Session: 7:30 a.m. to 8:15 a.m.

Full Governing Board: Closed Session: 8:30 a.m. to 9:45 a.m.; Open Session: 10:00 a.m. to 11:45 a.m.

On Thursday, November 17, 2016, ADC will meet in closed session from 12:30 p.m. to 2:30 p.m. to review secure digital-based tasks in mathematics for grade 12 and for science at grades 4 and 8. This meeting must be conducted in closed session because the test items are secure and have not been released to the public. Public disclosure of the secure test items would significantly impede implementation of the NAEP assessment program if conducted in open session. Such matters are protected by exemption 9(B) of § 552b(c) of Title 5 of the United States Code.

From 2:30 p.m. to 4:00 p.m. the ADC will meet in open session to review grade 12 contextual questions for students, teachers, and schools in reading and mathematics.

The Executive Committee will meet in open session on November 17 from 4:30 p.m. to 5:35 p.m. and thereafter in closed session from 5:35 p.m. to 6:00 p.m. During the closed session, the Executive Committee will be briefed on the development of the NAEP research grants program and the forthcoming request for proposals (RFP). This discussion will include secure information that will be included in the request for proposals which is not yet available to the public. This meeting must be conducted in closed session because premature public disclosure of this information would likely have an adverse impact on the proposed agency action if conducted in open session. Such matters are protected by exemption 9(B) of § 552b(c) of Title 5 of the United States Code.

On Friday, November 18, the full Governing Board will meet in open session from 8:30 a.m. to 10:00 a.m. The Governing Board will review and approve the November 17-19, 2016 Governing Board meeting agenda and meeting minutes from the August 2016 Quarterly Board Meeting. Thereafter, the Secretary of Education, John B. King, Jr. will administer the oath of office to a new Board member and four reappointed members following which he will provide remarks to the Governing Board.

This session will be followed by a report from the Executive Director of the Governing Board, William Bushaw, followed by an update on National Center for Education Statistics (NCES) work by Holly Spurlock, Branch Chief, National Assessment Operations, NCES.

The Governing Board will recess for committee meetings at 10:00 a.m. which are scheduled to take place from 10:15 a.m. to 12:30 p.m.

On November 18, 2016, the ADC will meet in a joint open session with COSDAM from 10:15 a.m. to 11:00 a.m. Thereafter the two committees will meet in a joint closed session from 11:00 a.m. to 11:30 a.m. to receive a briefing on an embargoed NCES research study involving 2015 mathematics data from grades 4 and 8 at national and state levels. The data and analyses are secure and have not been released to the public. Public disclosure of the secure test data and analyses would significantly impede implementation of the NAEP assessment program if conducted in open session. Such matters are protected by exemption 9(B) of § 552b(c) of Title 5 of the United States Code.

Following this joint meeting, ADC will meet in closed session from 11:45 a.m. to 12:30 p.m. to receive a briefing on the history and content of the NAEP Long-Term Trend assessments in reading and mathematics, which are conducted at ages 9, 13, and 17. The briefing will include secure reading and mathematics test items from these three age-level assessments that have not been released to the public. This meeting must be conducted in closed session because the test items are secure and have not been released to the public. Public disclosure of the secure test items would significantly impede implementation of the NAEP assessment program if conducted in open session. Such matters are protected by exemption 9(B) of § 552b(c) of Title 5 of the United States Code.

On November 18, the COSDAM will meet in open session from 11:30 a.m. to 12:30 p.m. to conduct regularly scheduled work. On November 17, the R&D Committee will meet in open session from 10:15 a.m. to 12:30 p.m. to conduct regularly scheduled work.

Following the committee meetings on Friday, November 18, the Governing Board will meet in closed session from 12:45 p.m. to 1:45 p.m. to receive a briefing on the 2015 National Indian Education Study in reading and mathematics from James Deaton, NCES. Results from this study have not been released to the public. Public disclosure of the study results would significantly impede implementation of the NAEP assessment program if conducted in open session. Such matters are protected by exemption 9(B) of § 552b(c) of Title 5 of the United States Code.

Following this closed session, the Governing Board will meet in closed session from 2:00 p.m. to 3:15 p.m. to receive a briefing from Eunice Greer, NCES, on data from recent NAEP digital-based pilot assessments in reading, mathematics, and writing. Secure test questions in each subject area as well as embargoed data will be presented during this briefing. The test questions and data have not been released to the public and the session must be conducted in closed session. Public disclosure of the secure test items and data would significantly impede implementation of the NAEP assessment program if conducted in open session. Such matters are protected by exemption 9(B) of § 552b(c) of Title 5 of the United States Code.

Thereafter, the Governing Board will take a fifteen-minute break and reconvene in open session from 3:30 p.m. to 4:15 p.m. to discuss and take action on the Governing Board's Strategic Vision. The discussion will be led by the Governing Board's Vice Chair Lucille Davy, with a presentation from Lily Clark of the Governing Board staff.

From 4:15 p.m. to 5:00 p.m., Marcella Goodridge-Keiller, Office of the General Counsel will provide the annual ethics briefing, and William Bushaw, Governing Board Executive Director, and Peggy Carr, NCES Acting Commissioner, will provide a briefing on keeping embargoed data secure.

The November 18, 2016 meeting will adjourn at 5:00 p.m.

On November 19, the Nominations Committee will meet in closed session from 7:30 a.m. to 8:15 a.m. The committee will receive a briefing on nominations received for Governing Board terms beginning in October 1, 2017. The Nominations Committee's discussions pertain solely to internal personnel rules and practices of an agency and information of a personal nature where disclosure would constitute a clearly unwarranted invasion of personal privacy. As such, the discussions are protected by exemptions 2 and 6 of § 552b(c) of Title 5 of the United States Code.

On November 19, the Governing Board will meet from 8:30a.m. to 9:45 a.m. to receive a briefing from the National Academy of Sciences on the Evaluation of the NAEP Achievement Levels for Mathematics and Reading. The evaluation report has not yet been publically released by the National Academy of Sciences. Public disclosure of the evaluation results would significantly impede implementation of the NAEP assessment and reporting program if conducted in open session. Such matters are protected by exemption 9(B) of § 552b(c) of Title 5 of the United States Code.

Thereafter, the Governing Board will have a short break and reconvene from 10:00 a.m. to 10:30 a.m. to receive an update on committee reports and take action on the R&D recommended release plan for the 2016 NAEP Arts assessment. The Governing Board will also take action on a joint delegation of authority to COSDAM and the Executive Committee for providing an official response to the Evaluation of NAEP Achievement Levels.

Following a short break, from 10:30 a.m. to 10:45 a.m., the Governing Board will meet in open session from 10:45 a.m. to 11:45 a.m. to receive a briefing on draft Governing Board guidelines for Releasing, Reporting, and Disseminating Results.

The November 19, 2016 meeting is scheduled to adjourn at 11:45 a.m.

Access to Records of the Meeting: Pursuant to FACA requirements, the public may also inspect the meeting materials at www.nagb.gov beginning on Thursday, November 17, 2016 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site.

You may also access documents of the Department published in the Federal Register by using the article search feature at: www.federalregister.gov. Specifically, through the advanced search feature at this site, you can limit your search to documents published by the Department.

Authority: Public Law 107-279, Title III—National Assessment of Educational Progress § 301.

Dated: October 26, 2016.
William J. Bushaw,
Executive Director, National Assessment Governing Board (NAGB), U. S. Department of Education.

[FR Doc. 2016-26194 Filed 10-28-16; 8:45 am]

BILLING CODE 4000-01-P